FEDERAL COMMUNICATIONS COMMISSION

Notice of Public Information Collection(s) Being Reviewed by the Federal Communications Commission, Comments Requested.

February 10, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 17, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0368

Title: Section 97.523 Question pools.

Form Number: N/A.

Type of Review: Revision of existing collection.

Respondents: Individuals, or households.

Number of Respondents: 3.

Estimated Time Per Response: 96 hours

Total Annual Burden: 288 hours.

Needs and Uses: The record keeping requirement contained in Section 97.523 is being revised to reflect a reduction in the number of written amateur operator examinations elements from five to three as a result of the Report and Order in WT Docket No.98-143. The requirement is necessary to permit question pools used in preparing amateur examinations to be maintained by Volunteer-Examiner Coordinators (VECs). These question pools must be published and made available to the public before the questions are used in examinations.

Federal Communications Commission.
Magalie Roman Salas,
Secretary.

[FR Doc. 00-3645 Filed 2-15-00; 8:45 am]

BILLING CODE 6712-01-P